DEPARTMENT OF AGRICULTURE

Forest Service

Information Collection; Federal Excess Personal Property (FEPP) and Firefighter Property (FFP) Program Cooperative Agreements

AGENCY: Forest Service, USDA.

ACTION: Notice; request for comment.

SUMMARY: In accordance with the Paperwork Reduction Act of 1995, the Forest Service is seeking comments from all interested individuals and organizations on the new information collection, Federal Excess Personal Property (FEPP) and Firefighter Property (FFP) program Cooperative Agreements.

DATES: Comments must be received in writing on or before December 6, 2010 to be assured of consideration. Comments received after that date will be considered to the extent practicable.

ADDRESSES: Comments concerning this notice should be addressed to: USDA, Forest Service, Attn: Melissa Frey, Fire and Aviation Management (F&AM), 1400 Independence Ave., SW., Mailstop 1107, Washington, DC 20250. Comments also may be submitted via e-mail to: mfrey@fs.fed.us.

The public may inspect comments received at USDA Forest Service, F&AM, Room 2SO, 201 14th St., SW., Washington, DC, during normal business hours. Visitors are encouraged to call ahead to 202-206-1483 to facilitate entry to the building.

FOR FURTHER INFORMATION CONTACT: Melissa Frey, Fire and Aviation Management, 202-205-1090. Individuals who use telecommunication devices for the deaf (TDD) may call the Federal Relay Service (FRS) at 1-800-877-8339 between 8 a.m. and 8 p.m., Eastern Standard Time, Monday through Friday.

SUPPLEMENTARY INFORMATION: Title: Federal Excess Personal Property (FEPP) and Firefighter Property (FFP) Cooperative Agreements.

OMB Number: 0596-NEW.

Type of Request: NEW.

Abstract: Federal Excess Personal Property (FEPP) and Firefighter Property (FFP) program Cooperative Agreements programs are available to state forestry agencies. The program provides participating state agencies with surplus Department of Defense and other federal agencies equipment and supplies to be used in firefighting and emergency services. The FEPP program loans property to the state who in turn sub-loans the equipment and supplies to fire departments. The FFP program transfers ownership of the equipment to either the state agency or the individual fire department.

A cooperative agreement collects information from the participating state agency and outlines the requirements and rules for the cooperation. Each state forestry agency shall provide an Accountable Officer who will be responsible for the integrity of the program within their respective state. For this reason, FEPP and FFP collect the state forestry agency contact information, the information of the Accountable Officer, and the requirements of participation in the FEPP and FFP programs.

A cooperative agreement will be prepared by each state forestry agency that desires to participate in one or both of the programs. Participating state agencies must submit separate agreements if they desire to be participants in both programs. Agreements will be processed and maintained at the United States Department of Agriculture, Forest Service, Fire and Aviation Management, Partnerships, Cooperative Programs branch in each Forest Service Regional Office.

The authority to provide surplus supplies to state agencies comes from Federal Property and Administration Services Act of 1949, 40 U.S.C., Sec 202. Authority to loan excess supplies comes from 10 U.S.C., Subtitle A, Part IV, Chapter 153, 2576b grants the authority for the FFP program.

Estimate of Annual Burden: 1 hour.

Type of Respondents: State Foresters.

Estimated Annual Number of Respondents: 10.

Estimated Annual Number of Responses per Respondent: 2.

Estimated Total Annual Burden on Respondents: 20 hours.

Comment is Invited:

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: September 28, 2010.
John Phipps,
Associate Deputy Chief, State and Private Forestry.

[FR Doc. 2010-24879 Filed 10-4-10; 8:45 am]

BILLING CODE 3410-11-P